DEPARTMENT OF COMMERCE

National Oceanic and Atmospheric Administration

RIN 0648-XW63

Magnuson Stevens Act Provisions; General Provisions for Domestic Fisheries; Application for Exempted Fishing Permits

AGENCY: National Marine Fisheries Service (NMFS), National Oceanic and Atmospheric Administration (NOAA), Commerce.

ACTION: Notice; request for comments.

SUMMARY: The Regional Administrator, Southwest Region, NMFS, has made a preliminary determination that an application for an Exempted Fishing Permit (EFP) warrants further consideration. The application was submitted by members of the Pacific sardine fishing industry, who request an exemption from seasonal closures of the directed fishery to conduct a survey designed to estimate the population size of Pacific sardine. NMFS requests public comment on the application.

DATES: Comments must be received by July 6, 2010.

ADDRESSES: You may submit comments on this notice, identified by 0648-XW63, by any one of the following methods:

• Mail: Rodney R. McInnis, Regional Administrator, Southwest Region, NMFS, 501 West Ocean Blvd., Suite 4200, Long Beach, CA 90802.

• Fax: (562) 980-4047, Att: Joshua Lindsay.

FOR FURTHER INFORMATION CONTACT: A copy of the application can viewed at the following website http://swr.nmfs.noaa.gov/fmd/cps/Sardine_EFP_2010_Full_ Application_042910-1.pdf; or by contacting Joshua Lindsay, Southwest Region, NMFS, (562) 980-4034.

SUPPLEMENTARY INFORMATION: On March 10, 2010, NMFS published a final rule implementing the harvest guideline (HG) and annual specifications for the 2010 Pacific sardine fishing season off the U.S. West Coast (75 FR 11068). As part of these management measures the Council recommended, and NMFS approved, that 5,000 metric tons (mt) of the maximum harvest guideline (HG) be initially subtracted and set aside for potential industry based research projects. Members of the Pacific sardine fishing industry, concerned about the difficulty of securing fishing vessels for research purposes during the normal fishing season, requested this separate allocation so that they could conduct research fishing activities after fishing is closed. The 5,000 mt set aside was intended to allow for potential research fishing in the second seasonal period (July 1 - September 14, 2009) and third seasonal period (September 15 - December 31, 2009), to continue if that period's directed fishery allocation is reached and directed fishing is closed.

NMFS approval and issuance of an EFP is required to conduct the fishing activities proposed by the applicants to occur when directed fishing is not allowed. At the March 2010 Council meeting, the Council reviewed an EFP application that proposed to utilize the entire 5,000 mt set aside. The applicants proposed the use of 4200 mt to replicate the summer survey conducted under the EFP approved in 2009 and expand the sample size and area covered. In addition to the summer survey, the applicants proposed to use 800 mt of the set aside to run a fall pilot project to test the viability of alternative tools and methodologies. The proposal went forward for public comment and was reviewed by the Council again at their April meeting, at which time the Council recommended that NMFS approve and issue the EFP.

One of the goals set forth in the EFP application is the development of an index of biomass for Pacific sardine, with the desire that this index be included in the subsequent Pacific sardine stock assessment. If NMFS determines that an EFP cannot be issued, then the set aside will be re allocated to the third period's directed harvest allocation. Any research set aside attributed to an EFP for use during the closed fishing time in the second allocation period (prior to September 15), but not utilized, will roll into the third allocation period's directed fishery. Any research set aside attributed to an EFP for use during the closed fishing time in the third allocation period, but not utilized, will not be re-allocated.

Authority: 16 U.S.C. 1801 et seq.

Dated: May 28, 2010.
Carrie Selberg,
Acting Deputy Director, Office of Sustainable Fisheries, National Marine Fisheries Service.

[FR Doc. 2010-13316 Filed 6-2-10; 8:45 am]

BILLING CODE 3510-22-S